DEPARTMENT OF TRANSPORTATION

Federal Highway Administration

23 CFR Part 630

[FHWA Docket No. FHWA-2001-11130]

RIN 2125-E29

Work Zone Safety

AGENCY: Federal Highway Administration (FHWA), DOT.

ACTION: Cancellation of public meeting.

SUMMARY: The FHWA published a notice of public meetings August 9, 2002, 67 FR 51802, which were scheduled for Thursday, August 29, Thursday, September 19, and Wednesday, September 25, 2002, from 10 to 2 p.m., highlight the reasons for the work zone safety Advance Notice of Proposed Rulemaking (ANPRM), and based on the comments received, discuss the possible impacts that a rulemaking might have on the current regulation. The meeting scheduled for Thursday, August 29, 2002, from 10 to 2 p.m. is cancelled due to a lack of adequate facilitation. The remaining meetings are to be held as scheduled.

DATES: The meeting scheduled for Thursday, August 29, 2002, from 10 to 2 p.m. is cancelled. Meetings will be held on Thursday, September 19 and Wednesday, September 25, 2002 from 10 to 2 p.m.

ADDRESSES: Cambridge Systematics, 4445 Willard Avenue, Suite 300, Chevy Chase, MD 20815. Telephone: (301) 347-0100 and Fax: (301) 347-0101.

FOR FURTHER INFORMATION CONTACT: Persons needing further information contact Mike Harris at PB Farradyne, Inc., by telephone at (703) 742-5759 or by Fax at (703) 742-5989. The U.S. DOT contact is Scott Battles, FHWA, 400 Seventh Street SW., Washington, DC 20590, (202) 366-4372. Office hours are from 7:45 a.m. to 4:15 p.m., e.t., Monday through Friday, except legal holidays.

SUPPLEMENTARY INFORMATION:

Electronic Access

An electronic copy of this document may be downloaded by using a computer, modem, and suitable communications software from the Government Printing Office's Electronic Bulletin Board Services at (202) 512-1661. Internet users may reach the Office of the Federal Register's home page at: http://www.nara.gov/fedreg and the Government Printing Office's web site at http://www/access.gpo.gov.

Authority: 23 U.S.C. 106, 109, 115, 315, 320, and 402(a); 23 CFR 1.32; 49 CFR 1.48; sec. 1051, Pub. L. 1022-240, 105 Stat. 2001; sec. 358(b), Pub. L. 104-59, 109 Stat. 625.

Issued on: August 26, 2002.
Jeffery Lindley,
Director, Office of Travel Management, Federal Highway Administration.

[FR Doc. 02-22257 Filed 8-27-02; 2:38 pm]

BILLING CODE 4910-22-M